DEPARTMENT OF JUSTICE

Antitrust Division

Notice Pursuant to the National Cooperative Research and Production Act of 1993—National Center for Manufacturing Sciences, Inc.

Notice is hereby given that, on September 24, 2009, pursuant to Section 6(a) of the National Cooperative Research and Production Act of 1993, 15 U.S.C. § 4301 et seq. (“the Act”), National Center for Manufacturing Sciences, Inc. (“NCMS”) has filed written notifications simultaneously with the Attorney General and the Federal Trade Commission disclosing changes in its membership. The notifications were filed for the purpose of extending the Act's provisions limiting the recovery of antitrust plaintiffs to actual damages under specified circumstances. Specifically, Aging Aircraft Consulting, LLC, Warner Robins, GA; Aerowing, Inc., Las Vegas, NV; Altair Engineering, Inc., Troy, MI; Dassault Systemes Simulia Corp., Northville, MI; Decision Incite Inc., Great Falls, VA; DIT-MCO International Inc., Kansas City, MO; Delta Consultants, Novi, MI; Engineered Performance Materials Company, LLC, Saline, MI; IBC Materials & Technologies, Inc., Lebanon, IN; L&L Products, Inc., Romeo, MI; MAHLE Industries, Inc., Farmington Hills, MI; Morris Technologies, Inc., Cincinnati, OH; Nimbis Services, Inc., McLean, VA; Ontonix LLC, Novi, MI; R Systems NA, Inc., Champaign, IL; Spectro Incorporated, Littleton, MA; Superior Controls, Inc., Plymouth, MI; and Wayne State University, Detroit, MI have been added as parties to this venture.

Also, Cabot Corporation, Albuquerque, NM; Camber Corporation, Huntsville, AL; Control Technology Inc., Knoxville, TN; Dow Chemical Company, Midland, MI; Eastman Kodak Company, Rochester, NY; Edison Welding Institute, Columbus, OH; Henkel Electronic, Conductive Die Attach Division, City of Industry, CA; IMES, Inc., Norwood, MA; Net-Inspect LLC, Bellevue, WA; Optomec Design Company, Albuquerque, NM; Parker Emerging, New Britain, CT; PPG Industries, Troy, MI; Savant Technology Group, Inc., Ann Arbor, MI; Star Cutter Company, Farmington, MI; and Teradyne, Inc. and Assembly Test Division, Boston, MA have withdrawn as parties to this venture.

No other changes have been made in either the membership or planned activity of the group research project. Membership in this group research project remains open, and NCMS intends to file additional written notification disclosing all changes in membership.

On February 20, 1987, NCMS filed its original notification pursuant to Section 6(a) of the Act. The Department of Justice published a notice in the Federal Register pursuant to Section 6(b) of the Act on March 17, 1987 (52 FR 8375).

The last notification was filed with the Department on February 4, 2009. A notice was published in the Federal Register pursuant to Section 6(b) of the Act on March 26, 2009 (74 FR 13227).

Patricia A. Brink,
Deputy Director of Operations, Antitrust Division.

[FR Doc. E9-28362 Filed 11-27-09; 8:45 am]

BILLING CODE 4410-11-M